DEPARTMENT OF EDUCATION

[Docket No.: ED-2020-SCC-0154]

Agency Information Collection Activities; Comment Request; Quarterly Budget and Expenditure Reporting Under CARES Act Sections 18004(a)(1) Institutional Portion, 18004(a)(2), and 18004(a)(3)

AGENCY: Office of Postsecondary Education, Department of Education (ED).

ACTION: Notice.

SUMMARY: In accordance with the Paperwork Reduction Act of 1995, ED is requesting the Office of Management and Budget (OMB) to conduct an emergency review of a new information collection.

DATES: The Department is requesting emergency processing and OMB approval for this information collection by October 5, 2020; and therefore, the Department is requesting public comments by that date. A regular clearance process is also hereby being initiated to provide the public with the opportunity to comment under the full comment period. Interested persons are invited to submit comments on or before November 27, 2020.

ADDRESSES: To access and review all the documents related to the information collection listed in this notice, please use http://www.regulations.gov by searching the Docket ID number ED-2020-SCC-0154. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-8240.

FOR FURTHER INFORMATION CONTACT: For specific questions related to collection activities, please contact Jack Cox, 202-453-6134.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Quarterly Budget and Expenditure Reporting under CARES Act Sections 18004(a)(1) Institutional Portion, 18004(a)(2), and 18004(a)(3).

OMB Control Number: 1840-NEW.

Type of Review: A new information collection.

Respondents/Affected Public: Private Sector; State, Local, and Tribal Governments.

Total Estimated Number of Annual Responses: 20,680.

Total Estimated Number of Annual Burden Hours: 41,360.

Abstract: Section 18004(a)(1) of the CARES Act, Public Law 116-136 (March 27, 2020), authorizes the Secretary of Education to allocate formula grant funds to participating institutions of higher educations (IHEs). Section 18004(c) of the CARES Act allows the IHEs to use up to one-half of the total funds received to cover any costs associated with the significant changes to the delivery of instruction due to the coronavirus (with specific exceptions). Section 18004(a)(2) of the CARES Act authorizes the Secretary to make awards under parts A and B of title III, parts A and B of title V, and subpart 4 of part A of title VII of the Higher Education Act of 1965, as amended (“HEA”), to address needs directly related to the coronavirus. These awards are in addition to awards made in Section 18004(a)(1) of the CARES Act.

Section 18004(a)(3) of the CARES Act, Pub. authorizes the Secretary to allocate funds for part B of Title VII of the HEA, for IHEs that the Secretary determines have the greatest unmet needs related to coronavirus. This information collection request includes the quarterly budget and expenditure reporting form that will be used by grantees under these sections.

Additional Information: An emergency clearance approval for the use of the system is described below due to the following conditions: If this emergency collection is not approved, the Department will be unable to effectively monitor the use of funds by grantees that have received awards under these sections.

Directed Question: The Department acknowledges the perception that this public reporting instrument may appear to be duplicative to the annual report form that is in preliminary development and will be submitted to the Department in 2021 (Federal Register/Vol. 85, No. 146/Wednesday, July 29, 2020). As such, the Department specifically welcomes comment on the relationship between the two instruments and how it might reduce any possible duplication.

Kate Mullan,
PRA Coordinator, Strategic Collections and Clearance Governance and Strategy Division, Office of Chief Data Officer, Office of Planning, Evaluation and Policy Development.

[FR Doc. 2020-21355 Filed 9-25-20; 8:45 am]

BILLING CODE 4000-01-P